DEPARTMENT OF EDUCATION

Office of Postsecondary Education; Notice Reopening Application Deadline Dates for the Student Support Services (SSS) Program

SUMMARY: The Secretary reopens the deadline dates listed in the sections entitled Dates and IV. Application and Submission Information, 3. Submission Dates and Times, as published in the Federal Register on July 8, 2004 (69 FR 41235) for the submission of applications from applicants in certain nationally declared disaster areas. The Secretary takes this action to allow more time for the preparation and submission of applications by potential applicants who have been affected by severe weather conditions in certain counties in Florida and in the Commonwealth of the Northern Mariana Islands. The reopening of these deadline dates is intended to help the potential applicants compete fairly with other applicants under these competitions.

Eligibility: The new deadline date will apply to you if you are a potential applicant from The Commonwealth of the Northern Mariana Islands, or from a county on the following list. The President has declared a major disaster for the following counties in Florida as a result of Hurricane Charley and Tropical Storm Bonnie.

Counties: Brevard, Charlotte, Collier, DeSoto, Dixie, Duval, Flagler, Glades, Hardee, Hendry, Highlands, Indian River, Lake, Lee, Levy, Manatee, Monroe, Okeechobee, Orange, Osceola, Pasco, Polk, St. Johns, Sarasota, Seminole, and Volusia.

SUPPLEMENTARY INFORMATION: The new deadline date for eligible applicants to transmit applications for this program is September 14, 2004. The deadline date for Intergovernmental Review under Executive Order 12732 remains as originally published.

FOR FURTHER INFORMATION CONTACT: Deborah I. Walsh or Dorothy Marshall, U.S. Department of Education, 1990 K Street, NW., suite 7000, Washington, DC 20006-8510. Telephone: (202) 502-7600 or by e-mail: TRIO@ed.gov.

If you use a telecommunications device for the deaf (TDD), you may call the Federal Information Relay Service (FIRS) at 1-800-877-8339.

Individuals with disabilities may obtain this document in an alternative format (e.g., Braille, large print, audiotape, or computer diskette) on request to the program contact persons listed in this section.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.htm.

Dated: September 1, 2004.
Sally L. Stroup,
Assistant Secretary for Postsecondary Education.

[FR Doc. 04-20196 Filed 9-2-04; 8:45 am]

BILLING CODE 4000-01-U